Proclamation 9855 of March 29, 2019

National Donate Life Month, 2019

By the President of the United States of America

A Proclamation

During National Donate Life Month, we recognize the courageous men and women who make the selfless decision to give the gift of life to their fellow Americans. Through the generosity of organ and tissue donors, thousands of people have the chance to live longer and fuller lives.

2018 marked the sixth consecutive record-setting year for transplants in the United States. More than 36,500 organs were transplanted, an increase of 5 percent over the previous year. These generous donations help fulfill a need for lifesaving organs that remains staggeringly high. Currently, there are nearly 114,000 people on the national transplant waiting list, and, tragically, 20 people die each day waiting for a needed organ. We can close the gap between the availability of organs and people in need of organs: Just 1 donor can save up to 8 lives through organ donation and enhance up to 50 lives through tissue donation.

In addition to those in need of organ donations, approximately 17,500 people in America are diagnosed each year with illnesses for which a bone marrow transplant is their best treatment option. In about 70 percent of these cases, a person's family member will not be an appropriate match, requiring a volunteer donor. Unfortunately, many patients cannot find a suitable match in time for the potentially lifesaving medical procedure among the 30 million adults who have offered to be donors. In 2018, for example, there were only 5,000 blood stem cell transplants performed in the United States—significantly fewer than the number of people who could benefit from such a procedure.

This month, we express our gratitude to the compassionate Americans who join organ and tissue registries and to the healthcare and science professionals who make the gift of life possible through these transplants. We also remember all those who have died waiting for matches. To honor their lives and provide hope for the thousands of Americans on waiting lists across the country, I encourage all those who are capable to consider becoming organ or tissue donors.

NOW, THEREFORE, I, DONALD J. TRUMP, President of the United States of America, by virtue of the authority vested in me by the Constitution and the laws of the United States, do hereby proclaim April 2019 as National Donate Life Month. I call upon health professionals, volunteers, educators, government agencies, faith-based and community groups, and private organizations to help raise awareness of the urgent need for organ and tissue donors throughout our Nation.

IN WITNESS WHEREOF, I have hereunto set my hand this twenty-ninth day of March, in the year of our Lord two thousand nineteen, and of the Independence of the United States of America the two hundred and forty-third.

[FR Doc. 2019-06808

Filed 4-3-19; 11:15 am]

Billing code 3295-F9-P